SUSQUEHANNA RIVER BASIN COMMISSION

Public Hearing

AGENCY: Susquehanna River Basin Commission.

ACTION: Notice.

SUMMARY: The Susquehanna River Basin Commission will hold a public hearing on May 14, 2020. Due to the COVID-19 crises and the relevant orders in place in the Commission's member jurisdictions, the Commission will hold this meeting telephonically. At this public hearing, the Commission will hear testimony on the projects listed in the Supplementary Information section of this notice. The Commission will also hear testimony on amendments to the Comprehensive Plan for the Water Resources of the Susquehanna River Basin. Such projects and proposals are intended to be scheduled for Commission action at its next business meeting, tentatively scheduled for June 19, 2020, which will be noticed separately. The public should take note that this public hearing will be the only opportunity to offer oral comment to the Commission for the listed projects and proposals. The deadline for the submission of written comments is May 27, 2020.

DATES: The public hearing will convene on May 14, 2020, at 2:30 p.m. The public hearing will end at 5:00 p.m. or at the conclusion of public testimony, whichever is sooner. The deadline for the submission of written comments is May 27, 2020.

ADDRESSES: This hearing will be held by telephone rather than at a physical location. Conference Call # 1-888-387-8686, the Conference Room Code # 9179686050.

FOR FURTHER INFORMATION CONTACT: Jason Oyler, General Counsel and Secretary to the Commission, telephone: (717) 238-0423; fax: (717) 238-2436. Information concerning the applications for these projects is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects.

Projects Scheduled for Action

1. Project Sponsor and Facility: Cabot Oil & Gas Corporation, Eaton Township, Wyoming County, Pa. Application for renewal of groundwater withdrawal of up to 0.864 mgd (30-day average) from the Hatchery Wellfield (Wells 1, 2, and 3) (Docket No. 20160610).

2. Project Sponsor and Facility: Chesapeake Appalachia, L.L.C. (Susquehanna River), Windham Township, Wyoming County, Pa. Application for surface water withdrawal of up to 3.000 mgd (peak day).

3. Project Sponsor and Facility: Chesapeake Appalachia, L.L.C. (Wyalusing Creek), Wyalusing Township, Bradford County, Pa. Application for surface water withdrawal of up to 3.000 mgd (peak day).

4. Project Sponsor and Facility: Green Leaf Water LLC (Lycoming Creek), Lewis Township, Lycoming County, Pa. Application for renewal of surface water withdrawal of up to 0.900 mgd (peak day) (Docket No. 20160601).

5. Project Sponsor: Pennsylvania—American Water Company. Project Facility: Susquehanna District, Great Bend Township, Susquehanna County, Pa. Application for renewal of groundwater withdrawal of up to 0.144 mgd (30-day average) from Well 2 (Docket No. 19900303).

6. Project Sponsor and Facility: Shippensburg Borough Authority, Southampton Township, Cumberland County, Pa. Application for renewal of groundwater withdrawal of up to 1.280 mgd (30-day average) from Well 1 (Docket No. 19900713).

Commission-Initiated Project Approval Modifications

1. Project Sponsor and Facility: The Municipal Authority of the Borough of Berlin, Allegheny Township, Somerset County, Pa. Conforming the grandfathering amount with the forthcoming determination for a groundwater withdrawal up to 0.030 mgd (30-day average) from Well 6 (Docket No. 19980702).

2. Project Sponsor and Facility: Iron Masters Country Club, Bloomfield Township, Bedford County, Pa. Conforming the grandfathering amount with the forthcoming determination for groundwater withdrawals up to 0.051 mgd (30-day average) from Well 10 and up to 0.061 mgd (30-day average) from Well 14 (Docket No. 20020813).

3. Project Sponsor and Facility: Sinking Valley Country Club, Tyrone Township, Blair County, Pa. Conforming the grandfathering amount with the forthcoming determination for groundwater withdrawals up to 0.081 mgd (30-day average) from the 14th Fairway Well and up to 0.099 mgd (30-day average) from the 8th Tee Well (Docket No. 20020811).

Opportunity To Appear and Comment

Interested parties may call into the hearing to offer comments to the Commission on any business listed above required to be subject of a public hearing. The presiding officer reserves the right to limit oral statements in the interest of time and to otherwise control the course of the hearing. Access to the hearing via telephone will begin at 2:15 p.m. Guidelines for the public hearing are posted on the Commission's website, www.srbc.net, prior to the hearing for review. The presiding officer reserves the right to modify or supplement such guidelines at the hearing. Written comments on any business listed above required to be subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before May 27, 2020, to be considered.

Authority: Pub. L. 9.1-575, 84 Stat. 1509 et seq., 18 CFR parts 806, 807, and 808.

Dated: April 15, 2020.
Jason E. Oyler,
General Counsel and Secretary to the Commission.

[FR Doc. 2020-08315 Filed 4-17-20; 8:45 am]

BILLING CODE 7040-01-P